SECURITIES AND EXCHANGE COMMISSION

[Release No. 34-80819; File No. SR-CTA/CQ-2017-02]

Consolidated Tape Association; Notice of Withdrawal of the Twenty-Second Charges Amendment to the Second Restatement of the CTA Plan and the Thirteenth Charges Amendment to the Restated CQ Plan

May 31, 2017.

I. Introduction

On March 2, 2017, the participants (“Participants”) ¹ of the Second Restatement of the Consolidated Tape Association (“CTA”) Plan and the Restated Consolidated Quotation (“CQ”) Plan (collectively, “Plans”) filed with the Securities and Exchange Commission (“Commission”) pursuant to Section 11A of the of the Securities Exchange Act of 1934 ² and Rule 608 thereunder,³ amendments to the Plans (“Amendments”) to modify and clarify certain fees.⁴ The Amendments were published for comment in the Federal Register on March 28, 2017.⁵ The Commission received eleven comment letters ⁶ on the Amendments and a response letter filed by the Participants.⁷

¹ The Participants are: BATS Exchange, Inc., BATS-Y Exchange, Inc., Chicago Board Options Exchange, Inc., Chicago Stock Exchange, Inc., EDGA Exchange, Inc., EDGX Exchange, Inc., Financial Industry Regulatory Authority, Inc., International Securities Exchange, LLC, Investors' Exchange LLC, NASDAQ OMX BX, Inc., NASDAQ OMX PHLX, Inc., Nasdaq Stock Market LLC, National Stock Exchange, New York Stock Exchange LLC, NYSE MKT LLC, and NYSE Arca, Inc.

² 15 U.S.C. 78k-1.

³ 17 CFR 242.608.

⁴ See Securities Exchange Act Release Nos. 10787 (May 10, 1974), 39 FR 17799 (May 20, 1974) (declaring the CTA Plan effective); 15009 (July 28, 1978), 43 FR 34851 (August 7, 1978) (temporarily authorizing the CQ Plan); and 16518 (January 22, 1980), 45 FR 6521 (January 28, 1980) (permanently authorizing the CQ Plan). The most recent restatement of both Plans was in 1995. The CTA Plan, pursuant to which markets collect and disseminate last sale price information for non-NASDAQ listed securities, is a “transaction reporting plan” under Rule 601 under the Act, 17 CFR 242.601, and a “national market system plan” under Rule 608 under the Act, 17 CFR 242.608. The CQ Plan, pursuant to which markets collect and disseminate bid/ask quotation information for listed securities, is a national market system plan.

⁵ See Securities Exchange Act Release No. 80300 (March 23, 2017), 82 FR 15404 (March 28, 2017) (SR-CTA/CQ-2017-02) (Notice of Filing and Immediate Effectiveness for the Amendments).

⁶ See Letter to Brent J. Fields, Secretary, Commission, from Brad Ward, dated April 17, 2017; Letter to Brent J. Fields, Secretary, Commission, from Marcus Mitchell, dated April 17, 2017; Letter to Brent J. Fields, Secretary, Commission, from Melissa MacGregor, Managing Director and Associate General Counsel, SIFMA, dated April 18, 2017; Letter to Brent J. Fields, Secretary, Commission, from Greg Babyak, Global Regulatory and Policy Group, Bloomberg LP, dated April 18, 2017; Letter to Brent J. Fields, Secretary, Commission, from Jay Froscheiser, Vice President, DTN/Schneider Electric, dated April 18, 2017; Letter to Brent J. Fields, Secretary, Commission, from Edward Foda, dated April 19, 2017; Letter to Brent J. Fields, Secretary Commission, from Anonymous, dated April 20, 2017; Letter to Brent J. Fields, Secretary, Commission, from David Craig, President, Thompson Reuters, dated April 21, 2017; Letter to Brent J. Fields, Secretary, Commission, from Sefano Durdic, Managing Director, R2G, dated April 24, 2017; Letter to Brent J. Fields, Secretary, Commission, from David Jenkins, received April 26, 2017; and, Letter to Brent J. Fields, Secretary, Commission, from Sihyang Lee dated April 27, 2017.

⁷ Letter to Brent J. Fields, Secretary, Commission, from Emily Kasparov, Chairman, CTA/CQ Operating Committee, dated April 24, 2017.

The Commission is publishing this notice to reflect that on April 27, 2017, prior to the end of the 60-day period provided for in Exchange Act Rule 608(b)(iii), the Participants withdrew the Amendments.⁸

⁸ Letter to Brent J. Fields, Secretary, Commission, from Emily Kasparov, Chairman, CTA/CQ Operating Committee, dated April 27, 2017.

By the Commission.
Eduardo A. Aleman,
Assistant Secretary.

[FR Doc. 2017-11580 Filed 6-5-17; 8:45 am]

BILLING CODE 8011-01-P